DEPARTMENT OF DEFENSE

Office of the Secretary

Meeting of the Defense Department Advisory Committee on Women in the Services (DACOWITS)

AGENCY: Department of Defense.

ACTION: Notice.

SUMMARY: Pursuant to section 10(a), Public Law 92-463, as amended, notice is hereby given of a forthcoming meeting of the Defense Department Advisory Committee on Women in the Services (DACOWITS). The purpose of the Committee meeting is to introduce new members and conduct orientation training. The meeting is open to the public, subject to the availability of space.

Interested persons may submit a written statement for consideration by the Committee and make an oral presentation of such. Persons desiring to make an oral presentation or submit a written statement to the Committee must notify the point of contact listed below no later than 5 p.m., 22 March 2006. Oral presentations by members of the public will be permitted only on Monday, 27 March 2006 from 4:45 p.m. to 5 p.m. before the full Committee. Presentations will be limited to two minutes. Number of oral presentations to be made will depend on the number of requests received from members of the public. Each person desiring to make an oral presentation must provide the point of contact listed below with one (1) copy of the presentation by 5 p.m., 22 March 2006 and bring 35 copies of any material that is intended for distribution at the meeting. Persons submitting a written statement must submit 35 copies of the statement to the DACOWITS staff by 5 p.m. on 22 March 2006.

Dates: March 27, 2006, 8:30 a.m.-5 p.m.; March 28, 2006, 8:30 a.m.-5 p.m.; March 29, 2006, 8:30 a.m.-5 p.m.

Location: Embassy Suites Hotel Crystal City—National Airport, 1300 Jefferson Davis Highway, Arlington, VA 22202.

FOR FURTHER INFORMATION CONTACT: MSgt Gerald Posey, USA DACOWITS, 4000 Defense Pentagon, Room 2C548A, Washington, DC 20301-4000. Telephone (703) 697-2122. Fax (703) 614-6233.

SUPPLEMENTARY INFORMATION: Meeting agenda.

Monday, 27 March 2006, 8:30 p.m.-5 p.m.

Welcome & Administrative Remarks.

New Member Orientation.

Public Forum.

Tuesday, 28 March 2006, 8:30 a.m.-5 p.m.

New Member Orientation.

Wednesday, 29 March 2006, 8:30 a.m.-5 p.m.

New Member Orientation.

Note: Exact order may vary.

Dated: March 7, 2006.
L.M. Bynum,
Alternate OSD Federal Register Liaison Officer, DoD.

[FR Doc. 06-2414 Filed 3-13-06; 8:45 am]

BILLING CODE 5001-06-M